DEPARTMENT OF COMMERCE

International Trade Administration

[A-201-805]

Circular Welded Non-Alloy Steel Pipe and Tube From Mexico: Initiation of New Shipper Antidumping Duty Review

AGENCY: Import Administration, International Trade Administration, Department of Commerce.

ACTION: Initiation of New Shipper Antidumping Duty Review.

EFFECTIVE DATE: July 10, 2006.

FOR FURTHER INFORMATION CONTACT: Patrick Edwards or John Drury, AD/CVD Operations, Office 7, Import Administration, International Trade Administration, U.S. Department of Commerce, 14th Street and Constitution Avenue, NW., Washington, DC 20230; telephone: (202) 482-8029 or (202) 482-0195, respectively.

SUPPLEMENTARY INFORMATION:

Background

On May 26, 2006, the Department of Commerce (the Department) received a timely request from Conduit S.A. de C.V. (Conduit), in accordance with 19 CFR 351.214(c), for a new shipper review of the antidumping duty order on circular welded non-alloy steel pipe and tube (pipe and tube) from Mexico. See Notice of Antidumping Duty Order: Circular Welded Non-Alloy Steel Pipe from Mexico, 57 FR 49453 (November 2, 1992).

Pursuant to 19 CFR 351.214(b), Conduit certified that it is both the exporter and producer of the subject merchandise, that it did not export subject merchandise to the United States during the period of the investigation (POI) (November 1, 1991, through October 31, 1992), and that since the investigation was initiated, it has never been affiliated with any exporter or producer who exported the subject merchandise to the United States during the POI, including those not individually examined during the investigation. Conduit also submitted documentation establishing the date on which the shipment that is the basis for this new shipper review was first entered for consumption, the volume shipped, and the date of its first sale to an unaffiliated customer in the United States.

Scope

The merchandise under review is circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90.

Although the HTS subheadings are provided for convenience and customs purposes, our written description of the scope of these proceedings is dispositive.

Initiation of Review

In accordance with section 751(a)(2)(B) of the Tariff Act of 1930, as amended (the Act) and 19 CFR 351.214(d), we are initiating a new shipper review of the antidumping duty order on pipe and tube from Mexico produced and exported by Conduit. See the Memorandum from the Team to the File through Richard O. Weible, Office Director, entitled “Initiation of AD New Shipper Review: Circular Welded Non-Alloy Steel Pipe and Tube from Mexico—Initiation Checklist,” dated June 30, 2006. We intend to issue the preliminary results of this review no later than 180 days after the date on which this review is initiated, and the final results within 90 days after the date on which we issue the preliminary results. See section 751(a)(2)(B)(iv) of the Act.

Pursuant to 19 CFR 351.214(g)(1)(i)(B), the period of review (POR) for a new shipper review, initiated in the month immediately following the semi-annual anniversary month, will be the six-month period immediately preceding the semi-annual anniversary month. Therefore, the POR for the new shipper review of Conduit is November 1, 2005, through April 30, 2006.

We will instruct U.S. Customs and Border Protection to suspend liquidation of any unliquidated entries of the subject merchandise from Conduit and allow, at the option of the importer, the posting, until completion of the review, of a bond or security in lieu of a cash deposit for each entry of the merchandise exported by Conduit in accordance with 19 CFR 351.214(e). Because Conduit certified that it both produced and exported the subject merchandise, the sale of which is the basis for this new shipper review request, we will permit the bonding privilege only for those entries of subject merchandise for which Conduit is both the producer and the exporter.

Interested parties may submit applications for disclosure under administrative protective order in accordance with 19 CFR 351.305 and 351.306.

This initiation and notice are in accordance with section 751(a)(2)(B) of the Act and 19 CFR 351.214(d).

Dated: June 30, 2006.
Stephen J. Claeys,
Deputy Assistant Secretary for Import Administration.

[FR Doc. E6-10736 Filed 7-7-06; 8:45 am]

Billing Code: 3510-DS-S